DEPARTMENT OF HEALTH AND HUMAN SERVICES

Administration for Children and Families

State Median Income Estimate for a Four-Person Family (FFY 2006); Notice of the Federal Fiscal Year (FFY) 2006 State Median Income Estimates for Use Under the Low Income Home Energy Assistance Program (LIHEAP) Administration by the Administration for Children and Families, Office of Community Services, Division of Energy Assistance

AGENCY: Office of Community Services, ACF, HHS.

ACTION: Notice of estimated State median income estimates for FFY 2006.

SUMMARY: This notice announces the estimated median income for four-person families in each State and the District of Columbia for FFY 2006 (October 1, 2005 to September 30, 2006). LIHEAP grantees may adopt the State median income estimates beginning with the date of this publication of the estimates in the Federal Register or at a later date as discussed below. This means that LIHEAP grantees could choose to implement this notice during the period between the heating and cooling seasons. However, by October 1, 2005, or by the beginning of a grantee's fiscal year, whichever is later, LIHEAP grantees using State median income estimates must adjust their income eligibility criteria to be in accord with the FFY 2006 State median income estimates.

This listing of estimate State median incomes provides one of the maximum income criteria that LIHEAP grantees may use in determining a household's income eligibility for LIHEAP.

EFFECTIVE DATE: The estimates are effective at any time between the date of this publication and October 1, 2005, or by the beginning of a LIHEAP grantee's fiscal year, whichever is later.

FOR FURTHER INFORMATION CONTACT: Leon Litow, Administration for Children and Families, HHS, Office of Community Services, Division of Energy Assistance, 5th Floor West, 370 L'Enfant Promenade, SW., Washington, DC 20447, Telephone: (202) 401-5304, E-Mail llitow@acf.hhs.gov.

SUPPLEMENTARY INFORMATION: Under the provisions of section 2603(11) of Title XXVI of the Omnibus Budget Reconciliation Act of 1981 (Pub. L. 97-35, as amended), we are announcing the estimated median income of a four-person family for each State, the District of Columbia, and the United States for FFY 2006 (the period of October 1, 2005, through September 30, 2006).

Section 2605(b)(2)(B)(ii) of the LIHEAP statute provides that 60 percent of the median income for each State, as annually established by the Secretary of the Department of Health and Human Services, is one of the income criteria that LIHEAP grantees may use in determining a household's eligibility for LIHEAP.

LIHEAP is authorized through the end of FFY 2004 by the Coats Human Services Reauthorization Act of 1998, Public Law 105-285, which was enacted on October 27, 1998. The LIHEAP program continues to operate with reauthorization legislation currently pending in Congress.

Estimates of the median income for a four-person family for each State and the District of Columbia for FFY 2006 have been developed by the Census Bureau of the U.S. Department of Commerce, using the most recently available income data. In developing the median income estimates for FFY 2006, the Census Bureau used the following three sources of data: (1) The Current Population Survey's 2004 Annual Social and Economic Supplement File; (2) the 2000 Decennial Census of Population; and (3) 2003 per capita personal income estimates, by State, from the Bureau of Economic Analysis (BEA) of the U.S. Department of Commerce.

For further information on the estimating method and data sources, contact the Housing and Household Economic Statistics Division, at the Census Bureau (302-763-3243). For information on recent U.S. income trends go to: http://www.census.gov/prod/2004pubs/p60-226.pdf.

A state-by-state listing of median income, and 60 percent of median income, for a four-person family for FFY 2006 follows: The listing describes the method for adjusting median income for families of different sizes as specified in regulations applicable to LIHEAP, at 45 CFR 96.85(b), which was published in the Federal Register on March 3, 1988 at 53 FR 6824.

Dated: February 9, 2005.
Robert L. Mott,
Deputy Director, Office of Community Services.

Estimated State Median Income for a Four-Person Family, by State, Federal Fiscal Year 2006 ¹
States | Estimated State median income for a four-person family ² | 60 percent of estimated State median income for a four-person family
Alabama | $55,448 | $33,269
Alaska | 72,110 | 43,266
Arizona | 58,206 | 34,924
Arkansas | 48,353 | 29,012
California | 67,814 | 40,688
Colorado | 71,559 | 42,935
Connecticut | 86,001 | 51,601
Delaware | 72,680 | 43,608
Dist. of Col. | 56,067 | 33,640
Florida | 58,605 | 35,163
Georgia | 62,294 | 37,376
Hawaii | 71,320 | 42,792
Idaho | 53,376 | 32,026
Illinois | 72,368 | 43,421
Indiana | 65,009 | 39,005
Iowa | 64,341 | 38,605
Kansas | 64,215 | 38,529
Kentucky | 53,198 | 31,919
Louisiana | 50,529 | 30,317
Maine | 59,596 | 35,758
Maryland | 82,363 | 49,418
Massachusetts | 82,561 | 49,537
Michigan | 68,602 | 41,161
Minnesota | 76,733 | 46,040
Mississippi | 46,570 | 27,942
Missouri | 64,128 | 38,477
Montana | 49,124 | 29,474
Nebraska | 63,625 | 38,175
Nevada | 63,005 | 37,803
New Hampshire | 79,339 | 47,603
New Jersey | 87,412 | 52,447
New Mexico | 45,867 | 27,520
New York | 69,354 | 41,612
North Carolina | 56,712 | 34,027
North Dakota | 57,092 | 34,255
Ohio | 66,066 | 39,640
Oklahoma | 50,216 | 30,130
Oregon | 61,570 | 36,942
Pennsylvania | 68,578 | 41,147
Rhode Island | 71,098 | 42,659
South Carolina | 56,433 | 33,860
South Dakota | 59,272 | 35,563
Tennessee | 55,401 | 33,241
Texas | 54,554 | 32,732
Utah | 62,032 | 37,219
Vermont | 65,876 | 39,526
Virginia | 71,697 | 43,018
Washington | 69,130 | 41,478
West Virginia | 46,169 | 27,701
Wisconsin | 69,010 | 41,406
Wyoming | 56,065 | 33,639
Note—FFY 2006 covers the period of October 1, 2005 through September 30, 2006. The estimated median income for a four-person family living in the United States is $65,093 for FFY 2006. The estimates are effective for the Low Income Home Energy Assistance Program (LIHEAP) at any time between the date of this publication and October 1, 2005, or by the beginning of a LIHEAP grantee's fiscal year, whichever is later.
¹ In accordance with 45 CFR 96.85, each State's estimated median income for a four-person family is multiplied by the following percentages to adjust for family size: 52% for one person, 68% for two persons, 84% for three persons, 100% for four persons, 116% for five persons, and 132% for six persons. For each additional family member above six persons, add 3% to the percentage for a six-person family (132%), and multiply the new percentage by the State's estimated median income for a four-person family.
² Prepared by the Census Bureau from the Current Population Survey's 2004 Annual Social and Economic Supplement File, 2000 Decennial Census of Population and Housing, and 2003 per capita personal income estimates, by State, from the Bureau of Economic Analysis (BEA). For further information, contact the Housing and Household Economic Statistics Division at the Census Bureau (301-763-3243).

[FR Doc. 05-3088 Filed 2-16-05; 8:45 am]

BILLING CODE 4184-01-M